DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection requests a three year extension of its “Technology Partnerships Ombudsman Reporting Requirements”, OMB Control Number 1910-5118. This information collection request covers information necessary to implement a statutory requirement that the Technology Transfer Ombudsmen report quarterly on complaints they receive.

DATES: Comments regarding this proposed information collection must be received on or before March 16, 2015. If you anticipate difficulty that you will be submitting comments, but find it difficult to do so within the period of time allowed by this notice, please advise the OMB Desk Officer of your intention to make a submission as soon as possible. The Desk Officer may be telephoned at 202-395-4718.

ADDRESSES: Written comments should be sent to the:

DOE Desk Officer, Office of Information and Regulatory Affairs, Office of Management and Budget, New Executive Office Building, Room 10102, 735 17th Street NW., Washington, DC 20503; and to

Janet N. Freimuth, HG-6, Acting Director, Office of Conflict Prevention and Resolution, U.S. Department of Energy, 1000 Independence Avenue SW., Washington, DC 20585; or by fax at 202-287-1415 or by email at janet.freimuth@hq.doe.gov.

FOR FURTHER INFORMATION CONTACT: Janet N. Freimuth at the address listed in ADDRESSES. The Web site address for the report is http://www.energy.gov/oha/downloads/technology-transfer-reporting-form.

SUPPLEMENTARY INFORMATION: This information collection request contains: (1) OMB No. 1910-5118; (2) Information Collection Request Title: “Technology Partnerships Ombudsman Reporting Requirements”; (3) Type of Request: Renewal; (4) Purpose: The information collected will be used to determine whether the Technology Partnerships Ombudsmen are properly helping to resolve complaints from outside organizations regarding laboratory policies and actions with respect to technology partnerships; (5) Annual Estimated Number of Respondents: 22; (6) Annual Estimated Number of Total Responses: 88; (7) Annual Estimated Number of Burden Hours: 50; (8) Annual Estimated Reporting and Recordkeeping Cost Burden: $ 2,500. The cost burden is based on an average hourly rate of $ 50 per hour. We expect no start up or maintenance costs.

Statutory Authority: Section 11 of the Technology Transfer Commercialization Act of 2000, Pub. L. 106-404, codified at 42 U.S.C. 7261c(c)(3)(C).

Issued in Washington, DC on February 9, 2015.
Janet N. Freimuth,
Acting Director, Office of Conflict Prevention and Resolution, Office of Hearings and Appeals, U.S. Department of Energy.

[FR Doc. 2015-03034 Filed 2-12-15; 8:45 am]

BILLING CODE 6450-01-P